DEPARTMENT OF DEFENSE

Department of the Army

Draft Environmental Impact Statement (DEIS) for Training Land Expansion at Fort Benning, GA and AL

AGENCY: Department of the Army, DoD.

ACTION: Notice of Availability (NOA).

SUMMARY: The Department of the Army has prepared a DEIS pursuant to the National Environmental Policy Act of 1969 to analyze the potential environmental impacts connected with the proposed acquisition of approximately 82,800 acres of land in the vicinity of Fort Benning, Georgia (GA) and Alabama (AL) for military training use. This Proposed Action will allow Fort Benning's Soldiers to conduct realistic maneuver training exercises through the battalion level as they train for contingency operations. The DEIS analyzes five acquisition alternatives, as well as the No Action Alternative (not acquiring more training land). Alternative 3 (acquire land in Stewart County, GA) is the Army's preferred alternative.

DATES: The public comment period will end 45 days after publication of the NOA in the Federal Register by the U.S. Environmental Protection Agency.

ADDRESSES: Questions or comments regarding the DEIS should be forwarded to Ms. Monica Manganaro, Fort Benning Public Affairs Office, 6460 Way Avenue, Building 2838, Fort Benning, GA 31905, or e-mailed to land.benning@us.army.mil.

FOR FURTHER INFORMATION CONTACT: Training Land Expansion Program hotline at (706) 545-8830 from 9 a.m. to 4 p.m.

SUPPLEMENTARY INFORMATION: Fort Benning, comprised of approximately 182,000 contiguous acres, is located in west-central GA and east-central AL. Fort Benning, home to the Maneuver Center of Excellence, is the Army's premier basic training installation, training all Infantry, Armor, and Cavalry Soldiers in basic and advanced combat skills, as well as Airborne Soldiers and Rangers. Fort Benning also has the mission to study, test, and develop future Infantry and Armor doctrine, weapon systems, ground combat vehicles, robotics, tactics, techniques, and procedures. In addition, Fort Benning supports the training of deployable units stationed at Fort Benning from the U.S. Army Forces Command and U.S. Army Special Operations Command.

The Army has determined Fort Benning has a doctrinal training land shortfall of 228,836 acres for heavy maneuver training. The shortfall means units must train in a degraded, less than optimal manner, resulting in less effective training than would be possible with additional maneuver land. Using a combination of land management practices and coordinated range scheduling, as well as the Army Compatible Use Buffer Program, Fort Benning has determined it can achieve sufficient training benefit by acquiring approximately 82,800 acres of additional training land. Land acquisition would facilitate Fort Benning's compliance with a Jeopardy Biological Opinion issued by the U.S. Fish and Wildlife Service related to the red-cockaded woodpecker, which requires that the field training portion of the Army Reconnaissance Course move off the current installation. The additional lands would also help to alleviate scheduling conflicts and training degradation which occur within existing Fort Benning training lands.

The Fort Benning Training Land Expansion DEIS analyzes the potential environmental impacts of six alternatives. The six alternatives include the No Action Alternative, under which the Army would not acquire additional training land, and five acquisition alternatives, each of which would involve the acquisition and use of approximately 82,800 acres of land. The five acquisition alternatives are:

(1) Alternative 1—Acquisition of lands southeast and south of Fort Benning within Marion, Webster and Stewart counties, GA;

(2) Alternative 2—Acquisition of lands to the west of Fort Benning within Russell County, AL;

(3) Alternative 3 (Preferred Alternative)—Acquisition of lands to the south of Fort Benning within Stewart County, GA;

(4) Alternative 4—Acquisition of lands to the south of Fort Benning in Stewart County, GA, and lands to the west of Fort Benning in Russell County, AL; and

(5) Alternative 5—Acquisition of lands to the south of Fort Benning in Stewart County, GA, and lands to the north of Fort Benning in Harris and Talbot counties, GA.

The Army has determined that as a result of the Proposed Action overall significant impacts could occur involving land use (Alternatives 1, 2, and 3), noise, socioeconomics, and traffic and transportation. The Army also anticipates moderate impacts could occur involving land use (Alternatives 4 and 5), airspace, air quality, soils (Alternatives 2 through 5), surface water resources (Alternatives 2 through 5), and wetlands (Alternative 1); minor impacts could occur involving soils (Alternative 1), surface water resources (Alternative 1), wetlands (Alternatives 2 through 5), utilities, hazardous and toxic substances and waste, and safety; and that overall beneficial impacts could occur involving biological resources and cultural resources. The DEIS also identifies practicable mitigation for adverse environmental impacts.

This DEIS also serves as documentation for consultation and public involvement for the Installation's compliance with Section 106 of the National Historic Preservation Act for this action. Fort Benning uses the Army Alternative Procedures as outlined in the Installation's Integrated Cultural Resource Management Plan.

All government agencies, special interest groups and individuals are invited to attend public meetings and/or submit their comments in writing. Information on the time and location of the public meetings will be published in local news media.

The DEIS is available for public review at local libraries and at http://www.benning.army.mil/garrison/tlep/.

Brenda S. Bowen,
Army Federal Register Liaison Officer.

[FR Doc. 2011-11345 Filed 5-12-11; 8:45 am]

BILLING CODE 3710-08-P